DEPARTMENT OF THE TREASURY

Submission for OMB Review; Comment Request

March 7, 2005.

The Department of the Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 11, 2005 to be assured of consideration.

Departmental Offices/Office of the Undersecretary for Domestic Finance; Proposed Collection; Comment Request

OMB Number: 1505-0174.

CFR Cite: 12 CFR 1501.2.

Type of Review: Extension.

Title: Financial Subsidiaries (Interim Final Rule).

Description: The regulation explains how a party may request that the Secretary of the Treasury determine that an activity is financial in nature and therefore one in which a financial subsidiary of a national bank may engage pursuant to 12 U.S.C. 24a.

Respondents: Business or other for-profit.

Estimated Number of Respondents: 2.

Estimated Burden Hours Per Respondent: 20 Hours.

Frequency of Response: On Occasion.

Estimated Total Reporting Burden: 40 hours.

OMB Number: 1505-0179.

CFR Cite: 12 CFR 1501.2.

Type of Review: Extension.

Title: Financial Subsidiaries (Interim Final Rule).

Description: The rule finds three types of activities to be financial in nature pursuant to 12 U.S.C. 24a(b)(3) and creates a means by which national banks may request that the Secretary define particular activities within one of the three categories.

Respondents: Business or other for-profit.

Estimated Number of Respondents: 1.

Estimated Burden Hours Per Respondent: 20 hours.

Frequency of Response: On Occasion.

Estimated Total Reporting Burden: 20 hours.

OMB Number: 1505-0182.

CFR Cite: 12 CFR Part 1500.

Type of Review: Extension.

Title: Merchant Banking Investments.

Description: The rule requires financial holding companies engaged in merchant banking activities to maintain certain policies, procedures, records and systems to manage and monitor such activities in a safe and sound manner.

Respondents: Business or other for-profit.

Estimated Number of Respondents: 450.

Estimated Burden Hours Per Respondent: 50 hours.

Estimated Total Reporting Burden: 22,500 hours.

Clearance Officer: Lois K. Holland, Departmental Offices, Room 2110, 1425 New York Avenue, NW., Washington, DC 20220, (202) 622-1563.

OMB Reviewer: Joseph F. Lackey, Jr., Office of Management and Budget, Room 10235, New Executive Office Building, Washington, DC 20503, (202) 395-7316.

Christopher L. Davis,
Treasury PRA Assistant.

[FR Doc. 05-4821 Filed 3-10-05; 8:45 am]

BILLING CODE 4811-16-P